DEPARTMENT OF TREASURY

Internal Revenue Service

Appointment of Members of the Legal Division to the Performance Review Board, Internal Revenue Service

Under the authority granted to me as Deputy Chief Counsel (Operations) of the Internal Revenue Service by the General Counsel of the Department of the Treasury by General Counsel Directive 15, pursuant to the Civil Service Reform Act, I have appointed the following persons to the Legal Division Performance Review Board, Internal Revenue Service Panel:

1. Eric Nguyen, Deputy General Counsel—Chair

2. Nikole C. Flax, Deputy Commissioner, Large Business and International (IRS)

3. Thomas C. West, Jr., Deputy Assistant Secretary (Tax Policy)

Alternate: Edward T. Killen, Deputy Division Commissioner, Tax Exempt and Government Entities (IRS)

This publication is required by 5 U.S.C. 4314(c)(4).

Drita Tonuzi,
Deputy Chief Counsel (Operations), Internal Revenue Service.

[FR Doc. 2022-21533 Filed 10-4-22; 8:45 am]

BILLING CODE 4830-01-P